NATIONAL AERONAUTICS AND SPACE ADMINISTRATION

48 CFR Parts 1801, 1815, and 1852

RIN 2700-AE35

Remove NASA FAR Supplement Clause, Engineering Change Proposals (2016-N030)

AGENCY: National Aeronautics and Space Administration.

ACTION: Proposed rule.

SUMMARY: National Aeronautics and Space Administration (NASA) is proposing to amend the NASA FAR Supplement (NFS) to remove NFS clause 1852.243-70, Engineering Change Proposals (ECPs) basic clause with its Alternate I & II and associated information collection from the NFS.

DATES: Comments on the proposed rule should be submitted in writing to the address shown below on or before October 17, 2016 to be considered in formulation of the final rule.

ADDRESSES: Submit comments identified by NFS Case 2016-N030, using any of the following methods:

○ Regulations.gov: http://www.regulations.gov. Submit comments via the Federal eRulemaking portal by entering “NFS Case 2016-N030” under the heading “Enter keyword or ID” and selecting “Search.” Select the link “Submit a Comment” that corresponds with “NFS Case 2016-N030.” Follow the instructions provided at the “Submit a Comment” screen. Please include your name, company name (if any), and “NFS Case 2016-N030” on your attached document.

○ Email: andrew.orourke@nasa.gov. Include NFS Case 2016-N030 in the subject line of the message.

○ Fax: (202) 358-3082.

○ Mail: National Aeronautics and Space Administration, Headquarters, Office of Procurement, Contract and Grant Policy Division, Attn: Andrew O'Rourke, LP-011, Suite 5L32, 300 E. Street SW., Washington, DC 20546-0001.

FOR FURTHER INFORMATION CONTACT: Andrew O'Rourke, NASA, Office of Procurement, Contract and Grant Policy Division, Suite 5L32, 300 E. Street SW., Washington, DC 20456-0001. Telephone (202) 358-4560; facsimile (202) 358-3082; email: andrew.orourke@nasa.gov.

SUPPLEMENTARY INFORMATION:

I. Background

NASA FAR Supplement clause 1852.243-70, Engineering Change Proposals, requires NASA contractors and vendors to submit contract change proposal information. The Office of Management and Budget (OMB) has approved the collection of this information via OMB Control Number 2700-054 that expires on September 30, 2017. In processing the request for renewal of this information collection under OMB Control Number 2700-054 and as part of NASA's continuing retrospective review of existing regulations to reduce unnecessary, outdated and/or burdensome requirements, NASA Office of Procurement (OP) surveyed its procurement offices to ascertain whether or not NFS clause 1852.243-70, Engineering Change Proposals, was necessary. The results of the review indicated that NFS clause 1852.243-70 was no longer utilized in procurements. Instead, the FAR Changes clauses (FAR 52.243-1 through 52.243-5) were being utilized to process engineering change proposals in lieu of this NFS clause. Thus, NASA is proposing to delete NFS clause 1852.243-70, Engineering Change Proposals, with its Alternate I & II and the corresponding information collection under OMB Control Number 2700-054.

II. Discussion

NASA is proposing the following revisions to eliminate unnecessary NFS requirements:

• Delete NFS segment 1843 and OMB Control Number 2700-054 from 1801.106-1.

• Remove the prescription at NFS 1843.205-70(a).

• Delete NFS clause 1852.243-70, Engineering Change Proposals.

III. Executive Orders 12866 and 13563

Executive Orders (E.O.s) 12866 and 13563 direct agencies to assess all costs and benefits of available regulatory alternatives and, if regulation is necessary, to select regulatory approaches that maximize net benefits (including potential economic, environmental, public health, and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This proposed rule is not a major rule under 5 U.S.C. 804.

IV. Regulatory Flexibility Act

NASA does not expect this proposed rule to have a significant economic impact on a substantial number of small entities within the meaning of the Regulatory Flexibility Act, 5 U.S.C. 601, et seq., because we are removing a NFS clause and its associated information collection requirements for contractors. By removing this clause, the information collection requirement on contractors will be eliminated, thus providing all entities, both large and small, with a positive benefit. However, an initial regulatory flexibility analysis has been performed and is summarized as follows:

In preparing the request for renewal of this information collection under OMB Control Number 2700-054 and as part of NASA's continuing retrospective review of existing regulations to reduce unnecessary, outdated and/or burdensome requirements, NASA Office of Procurement its procurement offices to ascertain whether or not NFS clause 1852.243-70, Engineering Change Proposals, was necessary. The results of the review indicated that NFS clause 1852.243-70 was no longer utilized in procurements. Instead, the FAR changes clauses were being utilized to process engineering change proposals in lieu of this NFS clause. Thus, NASA is proposing to delete NFS clause 1852.243-70, Engineering Change Proposals, with its Alternate I & II and the corresponding information collection under OMB Control Number 2700-054. This proposed rule does not include any new reporting, recordkeeping, or other compliance requirements for small businesses. The proposed rule does not duplicate, overlap, or conflict with any other Federal rules. No alternative approaches were considered.

NASA invites comments from small business concerns and other interested parties on the expected impact of this rule on small entities.

NASA will also consider comments from small entities concerning the existing regulations in subparts affected by this rule in accordance with 5 U.S.C. 610. Interested parties must submit such comments separately and should cite 5 U.S.C. 610 (NFS case 2016-N030) in correspondence.

C. Paperwork Reduction Act

The rule contains information collection requirements that require the approval of the OMB under the Paperwork Reduction Act (44 U.S.C chapter 35); however, the proposed changes to the NFS would remove the information collection requirements previously approved under OMB Control Number 2700-0054, entitled NFS 1843 Contract Modifications for Engineering Change Proposals (ECP).

List of Subjects in 48 CFR Parts 1801, 1843, and 1852

Government procurement.

Manuel Quinones,
NASA FAR Supplement Manager.

Accordingly, 48 CFR parts 1801, 1843, and 1852 are proposed to be amended as follows:

1. The authority citation for parts 1801, 1843 and 1852 continues to read as follows:

Authority: 51 U.S.C. 20113(a) and 48 CFR chapter 1.

PART 1801—FEDERAL ACQUISITION REGULATIONS SYSTEM

2. Revise Section 1801.106 to read as follows:

1801.106 OMB approval under the Paperwork Reduction Act.

The following OMB control numbers apply:

NFS segment | OMB Control No.
1823 | 2700-0089
1827 | 2700-0052
1852.223-70 | 2700-0160
NF 533 | 2700-0003
NF 1018 | 2700-0017

PART 1843—CONTRACT MODIFICATIONS

3. Revise Section 1843.205-70 to read as follows:

1843.205-70 NASA contract clauses.

The contracting officer may insert a clause substantially as stated at 1852.243-72, Equitable Adjustments, in solicitations and contracts for—

(a) Dismantling, demolishing, or removing improvements; or

(b) Construction, when the contract amount is expected to exceed the simplified acquisition threshold and a fixed-price contract is contemplated.

PART 1852—SOLICITATION PROVISIONS AND CONTRACT CLAUSES

1852.243-70 [Removed and reserved]

4. Section 1852.243-70 is removed and reserved.

1852.243-72 [Amended]

5. Amend section 1852.243-72 by removing “1843.205-70(b)” and adding “1843.205-70” in its place in the introductory text.

[FR Doc. 2016-19566 Filed 8-16-16; 8:45 am]

BILLING CODE 7510-13-P